NATIONAL SCIENCE FOUNDATION

Proposal Review Panel for Chemistry; Notice of Meeting

In accordance with the Federal Advisory Committee Act (Pub. L. 92-463 as amended), the National Science Foundation announces the following meeting:

Name: Cyber Review of Phase I Centers for Chemical Innovation (CCI), 2011 Awardees by NSF Division of Chemistry (1191).

Dates and Times: February 17, 2011; 8 a.m.-6 p.m. February 18, 2011; 8 a.m.-5 p.m.

Place: National Center for Supercomputing Applications, 901 Stuart Street, Suite 800, Arlington, VA 22203.

Type of Meeting: Part-open.

Contact Person: Dr. Robert Kuczkowski, Program Director, Chemistry Centers Program, Division of Chemistry, Room 1055, National Science Foundation, 4201 Wilson Boulevard, Arlington, VA 22230, Telephone (703) 292-4454.

Purpose of Meeting: To provide advice and recommendations concerning Phase I progress.

Agenda: Thursday, February 17, 2011

8 a.m.-9:30 a.m Closed—Panel Briefing and Discussion.

9:30 a.m.-11:15 a.m. Open—Presentation: Center for Molecular Tools for Conjugated Polymer Analysis and Optimization.

11:15 a.m.-11:45 a.m. Open—Panel-Center Q&A.

11:45 a.m.-1 p.m. Closed—Lunch/Panel Discussion.

1 p.m.-2:45 p.m. Open—Presentation: Center for Stereoselective C-H Functionalization.

2:45 p.m.-3:15 p.m. Open—Panel-Center Q&A.

3:15 p.m.-6 p.m. Closed—Panel Discussion.

Friday, February 18, 2011

8 a.m.-8:30 a.m. Closed—Panel Discussion.

8:30 a.m.-10:15 a.m. Open—Presentation: Center for Molecular Spintronics.

10:15 a.m.-10:45 a.m. Open—Panel-Center Q&A.

10:45 a.m.-12 p.m. Closed—Lunch/Panel Discussion.

12 p.m.-1:45 p.m. Open—Presentation: Center for Energetic Non-Equilibrium Chemistry at Interfaces.

1:45 p.m.-2:15 p.m. Open—Panel-Center Q&A.

2:15 p.m.-5 p.m. Closed—Panel Discussion.

Reason for Closing: The work being reviewed may include information of a proprietary or confidential nature, including technical information; financial data, such as salaries and personal information concerning individuals associated with the proposals. These matters are exempt under 5 U.S.C. 552 b(c), (4) and (6) of the Government in the Sunshine Act.

Dated: February 1, 2011.
Susanne Bolton,
Committee Management Officer.

[FR Doc. 2011-2461 Filed 2-3-11; 8:45 am]

BILLING CODE 7555-01-P